ENVIRONMENTAL PROTECTION AGENCY

[EPA-HQ-OPP-2014-0567; FRL 9926-57-OEI]

Agency Information Collection Activities; Submitted to OMB for Review and Approval; Comment Request; Pesticide Program Public Sector Collections (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Pesticide Program Public Sector Collections (FIFRA Sections 18 & 24(c)), identified by EPA ICR No. 2311.02 and OMB Control No. 2070-0182. The ICR, which is available in the docket along with other related materials, provides a detailed explanation of the collection activities and the burden estimate that is briefly summarized in this document. EPA did not receive any comments in response to the previously provided public review opportunity issued in the Federal Register on September 17, 2014 (79 FR 55791). With this submission, EPA is providing an additional 30 days for public review.

DATES: Comments must be received on or before June 17, 2015.

ADDRESSES: Submit your comments, identified by docket identification (ID) number EPA-HQ-OPP-2014-0567, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Rame Cromwell, Field and External Affairs Division (7506P), Office of Pesticide Programs, Environmental Protection Agency, 1200 Pennsylvania Ave. NW., Washington, DC 20460-0001; telephone number: (703) 308-9068; email address: cromwell.rame@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on May 31, 2015. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the paperwork burden associated with two types of pesticide registration requests made by states, U.S. Territories, or Federal agencies under the Federal Insecticide, Fungicide, and Rodenticide Act (FIFRA), 7 U.S.C. 136a et seq.: (1) Emergency exemption requests, which allow for an unregistered use of a pesticide; and (2) Requests by states to register a pesticide use to meet a special local need (SLN).

FIFRA section 18 allows EPA to grant emergency exemptions to states, U.S. Territories, and Federal agencies to allow an unregistered use of a pesticide for a limited time if EPA determines that emergency conditions exist. Section 18 requests include unregistered pesticide use exemptions for specific agricultural, public health, and quarantine purposes. FIFRA section 24(c) allows EPA to grant permission to a particular state to register additional uses of a federally registered pesticide for distribution and use within that state to meet a SLN.

Form numbers: EPA Form No. 8570-25; EPA Form No. 8570-4.

Respondents/affected entities: Entities potentially affected by this ICR are pesticides registrants, which may be identified by North American Classification System (NAICS) codes 325320 (pesticide and other agricultural chemical manufacturing), and 9241 (governments that administer environmental quality programs).

Respondent's obligation to respond: Mandatory. Required to obtain EPA permission under FIFRA sections 18 and 24(c).

Estimated total number of potential respondents: 980 (total).

Frequency of response: On occasion.

Estimated total burden: 34,175 hours (per year). Burden is defined at 5 CFR 1320.3(b).

Estimated total costs: $2,332,954 (per year), includes $0 annualized capital investment or maintenance and operational costs.

Changes in the estimates: There is no change in the number of burden hours estimated per respondent, as compared with that identified in the ICR currently approved by OMB. However, the total burden is being adjusted to reflect a change in the estimated number of applications EPA projects might be submitted in the next three years. Although submitting a request under FIFRA section 18 and 24(c) is not mandatory, making it difficult to provide a precise estimate of how many submissions will be received in the future, EPA used the submissions received in recent years to help estimate the potential number of future submissions. The result is a slight increase in the average number of FIFRA section 18 submissions projected per year, from 128 to 185; and a small decrease in the average number of FIFRA section 24(c) petitions projected for annual submissions, from about 325 to 305. The increased burden is the total annual respondent burden for FIFRA section 18 submissions increased from 12,672 hours to 18,315 hours; while the total annual respondent burden for FIFRA section 24(c) submissions decreased from 16,900 to 15,860 hours. The net result is an increase of 4,603 hours in the total burden (i.e., from 29,572 to 34,175).

Authority: 44 U.S.C. 3501 et seq.

Courtney Kerwin,
Acting Director, Collection Strategies Division.

[FR Doc. 2015-11935 Filed 5-15-15; 8:45 am]

BILLING CODE 6560-50-P